DEPARTMENT OF THE INTERIOR

Fish and Wildlife Service

Notice of Availability, Preassessment Screen

AGENCY: Fish and Wildlife Service, Interior.

ACTION: Notice of availability.

SUMMARY: The U.S. Fish and Wildlife Service (Service), on behalf of the Department of the Interior (DOI) as a natural resource trustee, announces the release to the public of the Natural Resource Damages Preassessment Screen for Onondaga Lake, Onondaga County, New York.

Federal regulations at 43 CFR 11.23(a) require Natural Resource Trustees to complete a preassessment screen (PAS) and make a determination as to whether a Natural Resources Damages Assessment (NRDA) shall be carried out at a site, before assessment efforts are undertaken under the regulations. The Onondaga Lake PAS document fulfills that requirement for the Onondaga Lake Superfund Site and follows the structure of Federal Regulations at 43 CFR part 11.

The purpose of the PAS is to provide a rapid review of the readily available information on releases of hazardous substances and potential impacts on natural resources in Onondaga Lake and sub-sites for which the DOI may assert trusteeship under section 107(f) of CERCLA.

ADDRESSES: Requests for copies of the PAS may be made to: U.S. Fish and Wildlife Service, New York Field Office, 3817 Luker Road, Cortland, NY 13045. The public is also invited to view copies of the PAS at the Service's New York Field Office at 3817 Luker Road, Cortland, NY 13045.

Additionally, the PAS will be available for viewing at the following Web site link: http://www.fws.gov/northeast/nyfo/ec/OnondagaLakePAS.pdf.

FOR FURTHER INFORMATION CONTACT: Ken Karwowski, at address under ADDRESSES, by phone at 607-753-9334 or by e-mail at Ken_Karwowski@fws.gov.

SUPPLEMENTARY INFORMATION: The PAS is being released in accordance with the CERCLA of 1980 as amended, commonly known as Superfund (42 U.S.C. 9601 et seq.), the Natural Resource Damage Assessment Regulations found at 43 CFR part 11, and the National Environmental Policy Act.

Author: The primary author of this notice is Ken Karwowski, U.S. Fish and Wildlife Service, New York Field Office, 3817 Luker Road, Cortland, NY 13045.

Authority: The authority for this action is the CERCLA of 1980 as amended, commonly known as Superfund, (42 U.S.C. 9601 et seq.), and the Natural Resource Damage Assessment Regulations found at 43 CFR part 11.

Dated: October 24, 2006.
Richard O. Bennett,
Acting Regional Director Region 5, U.S. Fish and Wildlife Service, DOI Designated Authorized Official, U.S. Department of the Interior.

[FR Doc. E6-22287 Filed 12-27-06; 8:45 am]

BILLING CODE 4310-55-P